DELAWARE RIVER BASIN COMMISSION

18 CFR Part 410

Proposed Amendments to the Water Quality Regulations, Water Code and Comprehensive Plan To Provide for Regulation of Natural Gas Development Projects

AGENCY: Delaware River Basin Commission.

ACTION: Proposed rule; supplemental notice of public hearing.

SUMMARY: The Delaware River Basin Commission published in the Federal Register of January 4, 2011 a proposed rule containing tentative dates and locations for public hearings on proposed amendments to its Water Quality Regulations, Water Code and Comprehensive Plan relating to natural gas development projects. The public hearing dates have been changed and locations and times established, as set forth below.

DATES: Public hearings will be held at two locations on February 22, 2011 and at a third on February 24, 2011. Hearings will run from 1:30 p.m. until 5 p.m. and from 6 p.m. until 9:30 p.m. at each location. Written comments will be accepted through the close of business on March 16, 2011.

Locations: The hearings on February 22, 2011 will take place in the Honesdale High School auditorium, 459 Terrace Street, Honesdale, Pennsylvania and the Liberty High School auditorium, 125 Buckley Street, Liberty, New York. The hearings on February 24, 2011 will take place in Patriots Theater at the War Memorial, 1 Memorial Drive, Trenton, New Jersey.

FOR FURTHER INFORMATION CONTACT: Ms. Paula Schmitt at 609-883-9500, ext. 224.

SUPPLEMENTARY INFORMATION: This document supplements the Commission's proposed rule published in the Federal Register of January 4, 2011 (76 FR 295) by providing the dates, times and locations of the public hearings to be held on proposed amendments to the Commission's Water Quality Regulations, Water Code and Comprehensive Plan relating to the conservation and development of water resources of the Delaware River Basin during the implementation of natural gas development projects. The tentative hearing dates published in the notice of January 4, 2011 have been changed. The exact locations and times of the public hearings were not included in the January 4 notice and are provided here.

The text of the proposed amendments and additional details about how to submit written and oral testimony are available on the Commission's Web site, drbc.net.

Dated: February 1, 2011.
John F. Calkin,
Attorney.

[FR Doc. 2011-2677 Filed 2-7-11; 8:45 am]

BILLING CODE 6360-01-P